DEPARTMENT OF THE INTERIOR

Bureau of Reclamation

[RR83550000, 189R5065C6, RX.59389832.1009676]

Quarterly Status Report of Water Service, Repayment, and Other Water-Related Contract Actions

AGENCY: Bureau of Reclamation, Interior.

ACTION: Notice of contract actions.

SUMMARY: Notice is hereby given of contractual actions that have been proposed to the Bureau of Reclamation (Reclamation) and are new, discontinued, or completed since the last publication of this notice. This notice is one of a variety of means used to inform the public about proposed contractual actions for capital recovery and management of project resources and facilities consistent with the Reclamation Project Act of 1939, as amended and supplemented. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section of this notice.

FOR FURTHER INFORMATION CONTACT: Michelle Kelly, Reclamation Law Administration Division, Bureau of Reclamation, P.O. Box 25007, Denver, Colorado 80225-0007; telephone 303-445-2888.

SUPPLEMENTARY INFORMATION: Consistent with section 9(f) of the Reclamation Project Act of 1939, as amended and supplemented, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

ARRA American Recovery and Reinvestment Act of 2009

BCP Boulder Canyon Project

Reclamation Bureau of Reclamation

CAP Central Arizona Project

CUP Central Utah Project

CVP Central Valley Project

CRSP Colorado River Storage Project

FR Federal Register

IDD Irrigation and Drainage District

ID Irrigation District

M&I Municipal and Industrial

O&M Operation and Maintenance

OM&R Operation, Maintenance, and Replacement

P-SMBP Pick-Sloan Missouri Basin Program

PPR Present Perfected Right

RRA Reclamation Reform Act of 1982

SOD Safety of Dams

SRPA Small Reclamation Projects Act of 1956

USACE U.S. Army Corps of Engineers

WD Water District

Pacific Northwest Region: Bureau of Reclamation, 1150 North Curtis Road, Suite 100, Boise, Idaho 83706-1234, telephone 208-378-5344.

The Pacific Northwest Region has no updates for this quarter.

Mid-Pacific Region: Bureau of Reclamation, 2800 Cottage Way, Sacramento, California 95825-1898, telephone 916-978-5250.

New contract action:

50. Del Puerto WD, CVP, California: Negotiation of a multi-year wheeling agreement with the State of California, Department of Water Resources to provide for the conveyance and delivery of CVP water through the State of California's water project facilities to Del Puerto Water District via a state water project contractor.

Lower Colorado Region: Bureau of Reclamation, P.O. Box 61470 (Nevada Highway and Park Street), Boulder City, Nevada 89006-1470, telephone 702-293-8192.

New contract action:

23. Imperial ID, Lower Colorado Water Supply Project, California: Amend the agreement between Reclamation and Imperial ID to extend the term for the funding of design, construction, and installation of power facilities for the Lower Colorado Water Supply Project.

Completed contract actions:

15. Imperial ID, BCP, California: Approve an assignment of 155 cubic feet per second of capacity in the All-American Canal and all obligations associated therewith to the District from the City of San Diego. Contract executed May 24, 2017.

16. Valencia Water Company and the City of Buckeye, CAP, Arizona: Execute a proposed assignment to the City of Buckeye of Valencia Water Company's 43 acre-foot annual CAP M&I water entitlement. This proposed action will increase the City of Buckeye's final 2034 entitlement to 68 acre-feet per annum and will eliminate Valencia Water Company's entitlement. Contract executed April 13, 2017.

18. San Carlos Apache Tribe and the Town of Gilbert, CAP, Arizona: Execute amendment No. 6 to a CAP water lease to extend the term of the lease in order for the San Carlos Apache Tribe to lease 29,341 acre-feet of its CAP water to the Town of Gilbert during calendar year 2017. Contract executed April 25, 2017.

20. Ak-Chin Indian Community and Del Webb Corporation, CAP, Arizona: Execute a CAP water lease in order for the Ak-Chin Indian Community to lease 1,800 acre-feet of its CAP water to the Del Webb Corporation during calendar year 2017. Contract executed April 23, 2017.

Upper Colorado Region: Bureau of Reclamation, 125 South State Street, Room 8100, Salt Lake City, Utah 84138-1102, telephone 801-524-3864.

New contract actions:

45. Strawberry High Line Canal Company, Strawberry Valley Project; Utah: The Strawberry High Line Canal Company has requested to allow for the carriage of non-project water held by McMullin Orchards in the High Line Canal.

46. Mancos Water Conservancy District, Mancos Project, Colorado: Proposed amendment to Jackson Gulch Rehabilitation Project repayment contract to provide continued funding within repayment terms that are consistent with terms of Section 9105 of Pub. L. 111-11.

Discontinued contract actions:

12. Salem Canal and Irrigation Company, Strawberry Valley Project, Utah: The United States intends to enter into an amendatory contract regarding possible lost generation of power revenues generated at the Spanish Fork Power Plant on the Strawberry Valley Project.

15. Uintah Water Conservancy District; Flaming Gorge Unit, CRSP; Utah: The District has requested a long-term water service contract to remove up to 5,500 acre-feet of water annually from the Green River for irrigation purposes under the authority of Section 9(e) of the Reclamation Project Act of 1939. A short-term contract may be executed until a long-term contract can be completed.

42. Weber Basin Water Conservancy District, Weber Basin Project, Utah: The District requires a Contributed Funds Act agreement for reimbursable costs not currently under contract.

Discontinued contract action from 2016:

(14) South Cache Water Users Association, Hyrum Project, Utah: The Association has requested a loan under Pub. L. 111-11 to pipe approximately 2,100 linear-feet of the Hyrum Mendon Canal.

Completed contract actions:

31. East Wanship Irrigation Company, Weber Basin Project, Utah: The Company has requested a supplemental O&M agreement to modify the Federal facilities below Wanship Dam to install a pipe from its current point of delivery to the end of the Primary Jurisdiction Zone. Contract executed May 24, 2017.

34. North Fork Water Conservancy District and Ragged Mountain Water Users Association, Paonia Project, Colorado: An existing contract for 2,000 acre-feet expired on December 31, 2016. The parties requested a 5-year contract that began when the existing contract expired. The new contract will be for up to 2,000 acre-feet of water for irrigation and M&I uses. Up to 200 acre-feet will be available for M&I uses. Contract executed April 12, 2017.

41. Weber Basin Water Conservancy District, Weber Basin Project, Utah: The District requires an amendment to its block notices for construction costs not currently under repayment. Contract executed July 31, 2017.

Completed contract action from 2016:

(37) Grand Valley Water Users Association and Orchard Mesa ID, Grand Valley Project, Colorado: A contract for repayment of extraordinary maintenance of the Grand Valley Power Plant funded pursuant to Subtitle G of Pub. L. 111-11. Contract executed September 13, 2016.

Great Plains Region: Bureau of Reclamation, P.O. Box 36900, Federal Building, 2021 4th Avenue North, Billings, Montana 59101, telephone 406-247-7752.

New contract actions:

34. Bureau of Land Management, Fryingpan-Arkansas Project, Colorado: Consideration of excess capacity contracting to store water in the Fryingpan-Arkansas Project.

35. Southeastern Colorado Water Conservancy District, Fryingpan-Arkansas Project, Colorado: Consideration of amending Contract no. 5-07-70-W0086 to create a reserve fund and convert or renew Contract no. 5-07-70-W0086.

36. Fresno Dam, Milk River Project, Montana: Consideration of contract(s) for repayment of SOD costs.

Discontinued contract action:

28. Avalanche ID; Canyon Ferry Unit, P-SMBP; Montana: Proposal to negotiate, execute, and administer a long-term water service contract to irrigate up to 11,000 acres of land with water from Canyon Ferry Reservoir.

Completed contract actions:

13. Northern Colorado Water Conservancy District, Colorado-Big Thompson Project, Colorado: Amend or supplement the 1938 repayment contract to include the transfer of OM&R for Carter Lake Dam Additional Outlet Works and Flatiron Power Plant Bypass facilities. Contract executed August 3, 2017.

14. Van Amundson; Jamestown Reservoir, Garrison Diversion Unit, P-SMBP; North Dakota: Intent to enter into an individual long-term irrigation water service contract to provide up to 285 acre-feet of water annually for a term of up to 40 years from Jamestown Reservoir, North Dakota. Contract executed April 18, 2017.

18. Midvale ID; Riverton Unit, P-SMBP; Wyoming: Consideration of a contract with the District for repayment of SOD costs at Bull Lake Dam. Contract executed June 20, 2017.

29. Oxbow Ranch; Canyon Ferry Unit, P-SMBP; Montana: Proposal to negotiate, execute, and administer a long-term water service contract for multiple purposes with water from Canyon Ferry Reservoir. Contract executed April 18, 2017.

31. Ainsworth ID; Ainsworth Unit, P-SMBP; Montana: Consideration of a contract with the District for repayment of SOD costs at Merritt Dam. Contract executed July 25, 2017.

Dated: October 18, 2017.
Karl Stock,
Acting Director, Policy and Administration.

[FR Doc. 2018-00250 Filed 1-9-18; 8:45 am]

BILLING CODE 4332-90-P